ENVIRONMENTAL PROTECTION AGENCY

[FRL-8747-5]

Clean Water Act Section 303(d): Availability of List Decisions

AGENCY: Environmental Protection Agency.

ACTION: Notice of Availability.

SUMMARY: This notice announces the availability of EPA's response to public comments concerning EPA's July 17, 2008 public notice announcing the availability of EPA's decision to add Corpus Christi Bay (Segment 2481) to the Texas 2008 section 303(d) list.

On July 17, 2008 EPA published a notice in the Federal Register at 73 FR 41069 providing the public the opportunity to review its decision to add Corpus Christi Bay to the Texas 2008 section 303(d) list as required by EPA's public participation regulations (40 CFR part 25). Based on its review of public comments received in response to this public notice, EPA has decided to maintain the listing of Corpus Christi Bay on the State's 303(d) list but has amended the scope of the listing to geographically define the impairment as restricted to only the Ropes Park and Cole Park Beach portions of Corpus Christi Bay as presently delineated by the Texas Beach Watch Program. Likewise, EPA has re-categorized the listing of the Ropes Park and Cole Park Beach portions of Corpus Christi Bay in category 5c of the State's integrated report. The basis for these decisions is described in EPA's response to public comments and EPA's letter, dated November 12, 2008, to Mr. Mark Vickery, Executive Director, Texas Commission on Environmental Quality (TCEQ).

ADDRESSES: Copies of EPA's responsiveness summary: “EPA Response to Public Comments on EPA's Decision to Place Corpus Christi Bay on the Texas 303(d) List” and the above referenced letter to Mr. Mark Vickery, TCEQ, can be obtained at EPA Region 6's Web site at http://www.epa.gov/region6/water/npdes/tmdl/index.htm, or by writing or calling Ms. Diane Smith, Water Quality Protection Division, U.S. Environmental Protection Agency Region 6, 1445 Ross Ave., Dallas, TX 75202-2733, telephone (214) 665-2145, facsimile (214) 665-6490, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of section 303(d) of the CWA (40 CFR 130.7). The regulations require states to identify water quality limited waters still requiring TMDLs every two years. The list of waters still needing TMDLs must also include priority rankings and must identify the waters targeted for TMDL development during the next two years (40 CFR 130.7).

Consistent with EPA's regulations, the State of Texas submitted to EPA its 2008 listing decisions pursuant to section 303(d) of the CWA on March 31, 2008. On July 10, 2008, EPA approved Texas's 2008 listing of 836 water body (assessment unit)-pollutant combinations and associated priority rankings. EPA disapproved Texas's decision not to list Corpus Christi Bay (Segment 2481). EPA identified this water body and the associated pollutant (bacteria) along with a priority ranking for inclusion on the 2008 section 303(d) List.

Dated: November 20, 2008.
William K. Honker,
Deputy Director, Water Quality Protection Division, Region 6.

[FR Doc. E8-28600 Filed 12-1-08; 8:45 am]

BILLING CODE 6560-50-P